ENVIRONMENTAL PROTECTION AGENCY

[ER-FRL-6664-1]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in Federal Register dated April 1, 2005 (70 FR 16815).

Draft EISs

EIS No. 20050068, ERP No. D-AFS-G65072-00, Ouachita National Forest, Proposed Revised Land and Resource Management Plan, Implementation, Several Counties, AR; and LeFlore and McCurtain Counties, OK.

Summary: EPA has no objections to the proposed action.

Rating LO.

EIS No. 20050076, ERP No. D-NOA-A91071-00, Atlantic Large Whale Take Reduction Plan, Proposed Amendments to Implement Specific Gear Modifications for Trap/Pot and Gillnet Fisheries, Broad—Based Gear Modifications, Exclusive Economic Zone (EEZ), ME, CT and RI.

Summary: EPA has no objections to the proposed action.

Rating LO.

EIS No. 20050077, ERP No. D-AFS-G65098-AR, Ozark-St. Francis National Forests Proposed Revised Land and Resource Management Plan, Implementation, Several Counties, AR.

Summary: EPA has no objections to the proposed action.

Rating LO.

EIS No. 20050135, ERP No. DS-COE-E39050-FL, Herbert Hoover Dike Major Rehabilitation Evaluation Study, Proposed to Reduce the Probability of a Breach of Reach One, Lake Okeechobee, Martin and Palm Beach Counties, FL.

Summary: EPA's previous concerns have been resolved; therefore, EPA has no objection to the proposed action.

Rating LO.

Final EISs

EIS No. 20050102, ERP No. F-COE-F36166-OH, Mill Creek, Ohio Flood Damage Reduction Project, To Reduce Damages to Communities, Hamilton County, OH.

Summary: EPA's previous concerns relating to Total Maximum Daily Load issues were adequately addressed; therefore, EPA has no objections to the proposed action.

EIS No. 20050146, ERP No. F-NPS-E65068-00, Vicksburg Campaign Trail (VCT) Feasibility Study, To Examine and Evaluate a Number of Sites, Implementation, Mississippi River, AR, LA, TN, MS and KY.

Summary: EPA has no objection to the preferred alternative, which includes acquiring and/or managing and protecting nationally significant Vicksburg Campaign battlefield sites.

EIS No. 20050088, ERP No. FC-NOA-E91015-00, Reef Fish Fishery Management Plan (FMP) Amendment 23, to Set Vermilion Snapper Sustainable Fisheries Act Targets and Thresholds and to Establish a Plan to End Overfishing and Rebuild the Stock, Implementation, Gulf of Mexico.

Summary: EPA's comments on the Draft Supplemental EIS have been addressed; there, EPA has no objections to the proposed action.

Dated: May 31, 2005.
Ken Mittelholtz,
Environmental Protection Specialist, Office of Federal Activities.

[FR Doc. 05-11109 Filed 6-2-05; 8:45 am]

BILLING CODE 6560-50-P